ENVIRONMENTAL PROTECTION AGENCY

[EPA-HQ-OPPT-2016-0484; FRL-9954-52]

Certain New Chemicals; Receipt and Status Information for September 2016

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from September 1, 2016 to September 30, 2016.

DATES: Comments identified by the specific case number provided in this document, must be received on or before December 12, 2016.

ADDRESSES: Submit your comments, identified by docket identification (ID) number EPA-HQ-OPPT-2016-0484, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT:

For technical information contact: Jim Rahai, IMD 7407M, Office of Pollution Prevention and Toxics, Environmental Protection Agency, 1200 Pennsylvania Ave. NW., Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitters of the actions addressed in this document.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This document provides receipt and status reports, which cover the period from September 1, 2016 to September 30, 2016, and consists of the PMNs and TMEs both pending and/or expired, and the NOCs to manufacture a new chemical that the Agency has received under TSCA section 5 during this time period.

III. What is the Agency's authority for taking this action?

Under TSCA, 15 U.S.C. 2601 et seq., EPA classifies a chemical substance as either an “existing” chemical or a “new” chemical. Any chemical substance that is not on EPA's TSCA Inventory is classified as a “new chemical,” while those that are on the TSCA Inventory are classified as an “existing chemical.” For more information about the TSCA Inventory, please go to: http://www.epa.gov/opptintr/newchems/pubs/inventory.htm.

Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic reports on the status of new chemicals under review and the receipt of NOCs to manufacture those chemicals.

IV. Receipt and Status Reports

As used in each of the tables in this unit, (S) indicates that the information in the table is the specific information provided by the submitter, and (G) indicates that the information in the table is generic information because the specific information provided by the submitter was claimed as CBI.

For the 71 PMNs received by EPA during this period, Table 1 provides the following information (to the extent that such information is not claimed as CBI): The EPA case number assigned to the PMN; The date the PMN was received by EPA; the projected end date for EPA's review of the PMN; the submitting manufacturer/importer; the potential uses identified by the manufacturer/importer in the PMN; and the chemical identity.

Table 1—PMNs Received From September 1, 2016 to September 30, 2016
Case No. | Received date | Projected notice end date | Manufacturer importer | Use | Chemical
P-16-0379 | 9/26/2016 | 12/25/2016 | CBI | (G) Intermediate for polymer synthesis | (G) Vinyl functional polymethylalkylpolymer.
P-16-0399 | 9/16/2016 | 12/15/2016 | Tryeco LLC | (S) Compound to be used in preparation of advanced seed coatings | (S) Starch, polymer with 2-propenoic acid, potassium salt. oxidized.
P-16-0399 | 9/16/2016 | 12/15/2016 | Tryeco LLC | (S) Agricultural soil amendment for turf applications and direct soil injection with fertilizers | (S) Starch, polymer with 2-propenoic acid, potassium salt. oxidized.
P-16-0399 | 9/16/2016 | 12/15/2016 | Tryeco LLC | (S) Agricultural soil amendment for filed crops as “agrisorb plus” granular soil amendment | (S) Starch, polymer with 2-propenoic acid, potassium salt. oxidized.
P-16-0429 | 9/20/2016 | 12/19/2016 | CBI | (G) Universal tint paste resin having high solids | (G) Endcapped polysiloxane.
P-16-0460 | 9/28/2016 | 12/27/2016 | CBI | (G) Process aid | (G) Silane-treated aluminosilicate.
P-16-0461 | 9/28/2016 | 12/27/2016 | CBI | (G) Process aid | (G) Silane-treated aluminosilicate.
P-16-0462 | 9/28/2016 | 12/27/2016 | CBI | (G) Process aid | (G) Silane-treated aluminosilicate.
P-16-0463 | 9/28/2016 | 12/27/2016 | CBI | (G) Process aid | (G) Silane-treated aluminosilicate.
P-16-0464 | 9/28/2016 | 12/27/2016 | CBI | (G) Process aid | (G) Silane-treated aluminosilicate.
P-16-0487 | 9/22/2016 | 12/21/2016 | Jaychem LLC | (S) Mass coloration of paper | (G) Benzenesulfonic acid 1,2-diazenediylbis[6-ethenyl]-3-sulfophenyl diazenyl-2-sulfophenyl ethenyl salt.
P-16-0520 | 9/26/2016 | 12/25/2016 | CBI | (G) As described above, the notified polymer will be use as a pigment dispersant | (G) 2-propenoic acid, polymer with N-(alkyl)-2propenamide, sodium alkyl alkene sulfonate (1:1) and sodium 2-methyl-2-[(1-oxo-2-propen-1-yl) amino]-1-propanesulfonate (1:1), peroxydisulfuric acid ([(ho)s(o)2]2o2) sodium salt (1:2)-initiated.
P-16-0520 | 9/26/2016 | 12/25/2016 | CBI | (G) The anticipated use is as a deposit control agent and pigment dispersant | (G) 2-propenoic acid, polymer with N-(alkyl)-2propenamide, sodium alkyl alkene sulfonate (1:1) and sodium 2-methyl-2-[(1-oxo-2-propen-1-yl) amino]-1-propanesulfonate (1:1), peroxydisulfuric acid ([(ho)s(o)2]2o2) sodium salt (1:2)-initiated.
P-16-0520 | 9/26/2016 | 12/25/2016 | CBI | (G) The anticipated use is as a pigment dispersant | (G) 2-propenoic acid, polymer with N-(alkyl)-2propenamide, sodium alkyl alkene sulfonate (1:1) and sodium 2-methyl-2-[(1-oxo-2-propen-1-yl) amino]-1-propanesulfonate (1:1), peroxydisulfuric acid ([(ho)s(o)2]2o2) sodium salt (1:2)-initiated.
P-16-0520 | 9/26/2016 | 12/25/2016 | CBI | (G) The anticipated use is as a deposit control agent | (G) 2-propenoic acid, polymer with N-(alkyl)-2propenamide, sodium alkyl alkene sulfonate (1:1) and sodium 2-methyl-2-[(1-oxo-2-propen-1-yl) amino]-1-propanesulfonate (1:1), peroxydisulfuric acid ([(ho)s(o)2]2o2) sodium salt (1:2)-initiated.
P-16-0521 | 9/26/2016 | 12/25/2016 | CBI | (G) The anticipated use is as a deposit control agent | (G) 2-propenoic acid, polymer with N-(alkyl)-2propenamide, sodium alkyl alkene sulfonate (1:1) and sodium 2-methyl-2-[(1-oxo-2-propen-1-yl) amino]-1-propanesulfonate (1:1), potassium salt, peroxydisulfuric acid ([(ho)s(o)2]2o2) sodium salt (1:2)-initiated.
P-16-0521 | 9/26/2016 | 12/25/2016 | CBI | (G) As described above, the notified polymer will be use as a pigment dispersant | (G) 2-propenoic acid, polymer with N-(alkyl)-2propenamide, sodium alkyl alkene sulfonate (1:1) and sodium 2-methyl-2-[(1-oxo-2-propen-1-yl) amino]-1-propanesulfonate (1:1), potassium salt, peroxydisulfuric acid ([(ho)s(o)2]2o2) sodium salt (1:2)-initiated.
P-16-0521 | 9/26/2016 | 12/25/2016 | CBI | (G) The anticipated use is as a deposit control agent and pigment dispersant | (G) 2-propenoic acid, polymer with N-(alkyl)-2propenamide, sodium alkyl alkene sulfonate (1:1) and sodium 2-methyl-2-[(1-oxo-2-propen-1-yl) amino]-1-propanesulfonate (1:1), potassium salt, peroxydisulfuric acid ([(ho)s(o)2]2o2) sodium salt (1:2)-initiated.
P-16-0521 | 9/26/2016 | 12/25/2016 | CBI | (G) The anticipated use is as a pigment dispersant | (G) 2-propenoic acid, polymer with N-(alkyl)-2propenamide, sodium alkyl alkene sulfonate (1:1) and sodium 2-methyl-2-[(1-oxo-2-propen-1-yl) amino]-1-propanesulfonate (1:1), potassium salt, peroxydisulfuric acid ([(ho)s(o)2]2o2) sodium salt (1:2)-initiated.
P-16-0522 | 9/26/2016 | 12/25/2016 | CBI | (G) As described above, the notified polymer will be use as a pigment dispersant | (G) 2-propenoic acid, polymer with N-(alkyl)-2propenamide, sodium alkyl alkene sulfonate (1:1) and sodium 2-methyl-2-[(1-oxo-2-propen-1-yl) amino]-1-propanesulfonate (1:1), sodium salt, peroxydisulfuric acid ([(ho)s(o)2]2o2) sodium salt (1:2)-initiated.
P-16-0522 | 9/26/2016 | 12/25/2016 | CBI | (G) The anticipated use is as a pigment dispersant | (G) 2-propenoic acid, polymer with N-(alkyl)-2propenamide, sodium alkyl alkene sulfonate (1:1) and sodium 2-methyl-2-[(1-oxo-2-propen-1-yl) amino]-1-propanesulfonate (1:1), sodium salt, peroxydisulfuric acid ([(ho)s(o)2]2o2) sodium salt (1:2)-initiated.
P-16-0522 | 9/26/2016 | 12/25/2016 | CBI | (G) The anticipated use is as a deposit control agent and pigment dispersant | (G) 2-propenoic acid, polymer with N-(alkyl)-2propenamide, sodium alkyl alkene sulfonate (1:1) and sodium 2-methyl-2-[(1-oxo-2-propen-1-yl) amino]-1-propanesulfonate (1:1), sodium salt, peroxydisulfuric acid ([(ho)s(o)2]2o2) sodium salt (1:2)-initiated.
P-16-0522 | 9/26/2016 | 12/25/2016 | CBI | (G) The anticipated use is as a deposit control agent | (G) 2-propenoic acid, polymer with N-(alkyl)-2propenamide, sodium alkyl alkene sulfonate (1:1) and sodium 2-methyl-2-[(1-oxo-2-propen-1-yl) amino]-1-propanesulfonate (1:1), sodium salt, peroxydisulfuric acid ([(ho)s(o)2]2o2) sodium salt (1:2)-initiated.
P-16-0523 | 9/26/2016 | 12/25/2016 | CBI | (G) The anticipated use is as a pigment dispersant | (G) 2-propenoic acid, polymer with N-(alkyl)-2propenamide, sodium alkyl alkene sulfonate (1:1) and sodium 2-methyl-2-[(1-oxo-2-propen-1-yl) amino]-1-propanesulfonate (1:1), ammonium salt, peroxydisulfuric acid ([(ho)s(o)2]2o2) sodium salt (1:2)-initiated.
P-16-0523 | 9/26/2016 | 12/25/2016 | CBI | (G) As described above, the notified polymer will be use as a pigment dispersant | (G) 2-propenoic acid, polymer with N-(alkyl)-2propenamide, sodium alkyl alkene sulfonate (1:1) and sodium 2-methyl-2-[(1-oxo-2-propen-1-yl) amino]-1-propanesulfonate (1:1), ammonium salt, peroxydisulfuric acid ([(ho)s(o)2]2o2) sodium salt (1:2)-initiated.
P-16-0523 | 9/26/2016 | 12/25/2016 | CBI | (G) The anticipated use is as a deposit control agent | (G) 2-propenoic acid, polymer with N-(alkyl)-2propenamide, sodium alkyl alkene sulfonate (1:1) and sodium 2-methyl-2-[(1-oxo-2-propen-1-yl) amino]-1-propanesulfonate (1:1), ammonium salt, peroxydisulfuric acid ([(ho)s(o)2]2o2) sodium salt (1:2)-initiated.
P-16-0523 | 9/26/2016 | 12/25/2016 | CBI | (G) The anticipated use is as a deposit control agent and pigment dispersant | (G) 2-propenoic acid, polymer with N-(alkyl)-2propenamide, sodium alkyl alkene sulfonate (1:1) and sodium 2-methyl-2-[(1-oxo-2-propen-1-yl) amino]-1-propanesulfonate (1:1), ammonium salt, peroxydisulfuric acid ([(ho)s(o)2]2o2) sodium salt (1:2)-initiated.
P-16-0528 | 9/14/2016 | 12/13/2016 | Shell Chemical LP | (S) Metal workings fluids/rolling oils | (S) Hydrocarbons, C16-22, branched and linear.
P-16-0528 | 9/14/2016 | 12/13/2016 | Shell Chemical LP | (S) Coatings | (S) Hydrocarbons, C16-22, branched and linear.
P-16-0528 | 9/14/2016 | 12/13/2016 | Shell Chemical LP | (S) Agrochemicals | (S) Hydrocarbons, C16-22, branched and linear.
P-16-0528 | 9/14/2016 | 12/13/2016 | Shell Chemical LP | (S) Cleaning fluids | (S) Hydrocarbons, C16-22, branched and linear.
P-16-0528 | 9/14/2016 | 12/13/2016 | Shell Chemical LP | (S) Sold as intermediate | (S) Hydrocarbons, C16-22, branched and linear.
P-16-0537 | 9/21/2016 | 12/20/2016 | CBI | (G) Masking photopolymer | (G) Formaldehyde phenol isobenzofurandione polymer.
P-16-0540 | 9/28/2016 | 12/27/2016 | CBI | (G) Polymeric film former for coatings | (G) Diphenolic compound, polymer with 2-(chloromethyl)oxirane and 4,4′-methylenebis[di-alkyl-substituted phenol].
P-16-0541 | 9/19/2016 | 12/18/2016 | Specialty Organics, Inc. | (S) Adhesive for wood particle/chip/fiberboard | (S) Soybean meal, reaction products with phosphoric trichloride.
P-16-0545 | 9/2/2016 | 12/1/2016 | CBI | (G) Device chemical | (G) Substituted siloxane polymer.
P-16-0546 | 9/16/2016 | 12/15/2016 | Cardolite Corporation | (S) GX-9203 is used for the adhesive application | (G) Cashew, nutshell liquid, polymer with acid and halohydrin.
P-16-0547 | 9/6/2016 | 12/5/2016 | CBI | (G) Catalyst | (G) Neodymium aluminum alkyl catalyst.
P-16-0548 | 9/8/2016 | 12/7/2016 | CBI | (G) Resin catalyst | (G) Triarylsulfonium salt.
P-16-0570 | 9/21/2016 | 12/20/2016 | CBI | (S) Aromatic polyester polyol for rigid foam | (G) Aromatic polyester polyol.
P-16-0571 | 9/14/2016 | 12/13/2016 | CBI | (G) Additive for coatings | (G) Alkyl alkenoate, alkanediyl, polymer with alkyl alkenoate, substituted carbomonocycle, alkyl alkenoate and heteromonocycle alkyl alkenoate, diazene bis alkyl heteromonocycle initiated.
P-16-0572 | 9/14/2016 | 12/13/2016 | Hexion Inc | (S) Tackifier in hot melt adhesive and pressure sensitive adhesive formulation | (G) Polyamine polyacid adducts.
P-16-0572 | 9/14/2016 | 12/13/2016 | Hexion Inc | (G) Adhesive ingredient | (G) Polyamine polyacid adducts.
P-16-0572 | 9/14/2016 | 12/13/2016 | Hexion Inc | (G) Adhesive for coating | (G) Polyamine polyacid adducts.
P-16-0572 | 9/14/2016 | 12/13/2016 | Hexion Inc | (G) Adhesive for coating particulate materials | (G) Polyamine polyacid adducts.
P-16-0573 | 9/14/2016 | 12/13/2016 | Hexion Inc | (G) Adhesive ingredient | (G) Polyamine polyacid adducts.
P-16-0573 | 9/14/2016 | 12/13/2016 | Hexion Inc | (S) Tackifier in hot melt adhesive and pressure sensitive adhesive formulation | (G) Polyamine polyacid adducts.
P-16-0573 | 9/14/2016 | 12/13/2016 | Hexion Inc | (G) Adhesive for coating particulate materials | (G) Polyamine polyacid adducts.
P-16-0573 | 9/14/2016 | 12/13/2016 | Hexion Inc | (G) Adhesive for coating | (G) Polyamine polyacid adducts.
P-16-0575 | 9/15/2016 | 12/14/2016 | CBI | (S) Polymerization of glucose | (S) Glucosyltransferase—the CASRN was determined using the international union of biochemistry and molecular biology (iubmb) enzyme nomenclature recommendations for the noticed enzyme (see attachment—iubmb nomenclature). reaction catalyzed: sucrose+[(1-->6)-?-d-glucosyl]n = d-fructose + [(1-->6)-?-d-glucosyl]n+1iubmb number: 2.4.1.5 in addition to catalyzing the formation of alpha-1-6-glucan linkages as specified in the iubmb number 2.4.1.5, depending on the source organism and gene, the glycosyltransferase enzyme may catalyze other alpha linkages including alpha 1-3 for the noticed enzyme and other linkages (e.g. 1,4-, 1,6-).
P-16-0576 | 9/16/2016 | 12/15/2016 | CBI | (G) Intermediate | (G) Modified alkyl polyamine.
P-16-0577 | 9/16/2016 | 12/15/2016 | CBI | (G) Oil lubricant additive | (G) Alkyl polyamine.
P-16-0579 | 9/19/2016 | 12/18/2016 | Allnex USA Inc. | (S) Ultraviolet (uv) curable coating resin | (G) Waste plastics, poly(ethylene terephthalate), depolymd. with polypropylene glycol ether with glycerol (3:1), polymers with alkenoic and alkanoic acids.
P-16-0580 | 9/19/2016 | 12/18/2016 | CBI | (G) Synthetic aircraft engine lubricant for contained use industrial lubricant | (G) Trimethylolpropane ester of mixed linear and branched carboxylic acids.
P-16-0581 | 9/19/2016 | 12/18/2016 | CBI | (S) Polymer additive | (G) Polysaccharide.
P-16-0581 | 9/19/2016 | 12/18/2016 | CBI | (S) Fiber additive | (G) Polysaccharide.
P-16-0581 | 9/19/2016 | 12/18/2016 | CBI | (S) Composite component | (G) Polysaccharide.
P-16-0581 | 9/19/2016 | 12/18/2016 | CBI | (S) Paper coating component | (G) Polysaccharide.
P-16-0582 | 9/20/2016 | 12/19/2016 | CBI | (S) Lubricity additive for industrial oils And other lubricants | (G) Carboxylic acids, polyalkyl unsaturated, oligomers, polymers with substituted alkyl alkenol and alkylpolyol.
P-16-0582 | 9/20/2016 | 12/19/2016 | CBI | (S) Lubricity additive for automotive engine oil | (G) Carboxylic acids, polyalkyl unsaturated, oligomers, polymers with substituted alkyl alkenol and alkylpolyol.
P-16-0583 | 9/21/2016 | 12/20/2016 | CBI | (S) Sealant for head lamps of cars | (G) Aromatic hydrocarbon resin.
P-16-0584 | 9/22/2016 | 12/21/2016 | CBI | (G) Additive used to impart specific physicochemical property(ies) to finished articles | (G) Multi-walled carbon nanotubes.
P-16-0585 | 9/22/2016 | 12/21/2016 | CBI | (G) Additive used to impart specific physicochemical property(ies) to finished articles | (G) Multi-walled carbon nanotubes.
P-16-0586 | 9/22/2016 | 12/21/2016 | CBI | (G) Additive used to impart specific physicochemical property(ies) to finished articles | (G) Muti-walled carbon nanotubes.
P-16-0587 | 9/22/2016 | 12/21/2016 | Kemira Chemicals | (S) Flocculant used in iron ore processing plant | (S) Galactoarabinoxylan.
P-16-0588 | 9/22/2016 | 12/21/2016 | CBI | (G) Additive for coatings | (G) Alkyl methacrylate, polymer with alkyl acrylate and polyesters.
P-16-0589 | 9/22/2016 | 12/21/2016 | CBI | (G) Synthetic aircraft engine lubricant for contained use industrial lubricant | (G) Pentaerythritol ester of mixed linear and branched carboxylic acids.
P-16-0593 | 9/28/2016 | 12/27/2016 | CBI | (S) Aromatic polyester polyol for rigid foam | (G) Aromatic polyester polyol.
P-16-0594 | 9/28/2016 | 12/27/2016 | Chitec Technology Co., Ltd | (G) Ink additive | (G) Alkanone, substituted oxyalkyl substituted alkyl carbomonocycle] substituted dialkyl alkylcarbomonocycle.
P-16-0595 | 9/29/2016 | 12/28/2016 | CBI | (G) Polymer | (G) Polyether polyurethane.
P-16-0596 | 9/29/2016 | 12/28/2016 | Allnex USA Inc. | (S) Site limited intermediate used for production of uv curable coating resin | (G) Alkenoic acid, reaction products with polyethylene glycol ether with hydroxyalkyl substituted alkane.

For the 21 NOCs received by EPA during this period, Table 3 provides the following information (to the extent that such information is not claimed as CBI): The EPA case number assigned to the NOC; the date the NOC was received by EPA; the projected date of commencement provided by the submitter in the NOC; and the chemical identity.

Table 2—NOCs Received From September 1, 2016 to September 30, 2016
Case No. | Received date | Commencement date | Chemical
P-05-0415 | 9/9/2016 | 9/6/2016 | (G) Acrylic polymer with styrene, peroxy-initiated.
P-08-0724 | 9/22/2016 | 8/23/2016 | (G) Cycloaliphatic anhydride, polymer with hydroxy alkyl diol, alkyl ester.
P-11-0012 | 9/1/2016 | 8/23/2016 | (G) Slump retainer in concrete.
P-11-0424 | 9/19/2016 | 8/25/2016 | (G) Alkenoyloxy arylphenone.
P-12-0504 | 9/21/2016 | 9/20/2016 | (G) Phosphinic acid, sodium salt (1:1), reaction products with alkenedioic anhydride homopolymer, sodium salts.
P-13-0948 | 9/9/2016 | 8/31/2016 | (G) Amine phosphate.
P-15-0109 | 9/22/2016 | 8/28/2016 | (S) 1,2,4,5-benzenetetracarboxylic acid, mixed et and me esters, compds. with 4,4'-methylenebis[benzeneamine] mixed et and me 4,4'-carbonylbis[1,2-benzenedicarboxylate].
P-15-0545 | 9/28/2016 | 9/19/2016 | (G) Amine-functional acrylic polymer.
P-15-0660 | 9/14/2016 | 8/19/2016 | (G) Alicyclic anhydride, polymer with alkanepolyol, 2-(chloromethyl)oxirane, 4,4'-(1-methylethylidene)bis[phenol] and cyclic ester.
P-15-0662 | 9/14/2016 | 8/26/2016 | (G) Alicyclic anhydride, polymer with alkanepolyol, 2-(chloromethyl)oxirane, , alkanediol,4,4'-(1-methylethylidene)bis[phenol] and cyclic ester.
P-15-0693 | 9/2/2016 | 8/25/2016 | (G) 1,2-ethanediamine, N1-(2-aminoethyl)-, reaction products with polyethylenimine and polypropylene glycol -alkyl 3-(5-carboxy-1,3-dihydro-1,3-dioxo-2H-isoindol-2-yl) ethers.
P-15-0704 | 9/6/2016 | 8/10/2016 | (S) Siloxanes and silicones, di-me, [(butylethenylmethylsilyl)oxy]- and hydrogen-terminated.
P-15-0745 | 9/12/2016 | 9/8/2016 | (G) Naturally-occurring minerals, reaction products with boron sodium oxide (b4na2o7), hetero substituted alkyl acrylate polymer, kaolin and sodium silicate.
P-16-0036 | 9/13/2016 | 8/2/2016 | (G) Monohydroxy substituted heteropolycycle.
P-16-0094 | 9/27/2016 | 9/24/2016 | (G) Perfluoropolyether modified organosilane.
P-16-0237 | 9/15/2016 | 8/20/2016 | (S) 2-propenoic acid, dodecyl ester, polymer with 2-hydroxyethyl 2-propenoate.
P-16-0263 | 9/8/2016 | 8/11/2016 | (G) Alkene polymer with anhydride and imides.
P-16-0266 | 9/14/2016 | 9/8/2016 | (G) Polyester polyurethane polyol.
P-16-0272 | 9/9/2016 | 8/24/2016 | (S) Lecithins, soya, hydrogenated.
P-16-0340 | 9/7/2016 | 8/29/2016 | (G) Glycerides, C8-18 and C18 unsaturated, from algal fermentation.
P-16-0392 | 9/23/2016 | 9/6/2016 | (S) Soybean oil, mixed with hydrogenated soybean oil, interesterified.

Authority: 15 U.S.C. 2601 et seq.

Dated: October 27, 2016.
Pamela Myrick,
Director, Information Management Division, Office of Pollution Prevention and Toxics.

[FR Doc. 2016-27195 Filed 11-9-16; 8:45 am]

BILLING CODE 6560-50-P